MORRIS K. UDALL AND STEWART L. UDALL FOUNDATION

Sunshine Act Meetings

TIME AND DATE: 1:00 p.m. to 1:15 p.m. (MST-AZ), Monday, August 19, 2024.

PLACE: Virtual Special Board of Trustees Meeting via Microsoft Teams.

STATUS: This virtual special meeting of the Board of Trustees will be open to the public. Members of the public who would like to observe this meeting may request remote access by contacting Sara Moeller at moeller@udall.gov prior to August 19, 2024, to obtain the teleconference connection information.

MATTERS TO BE CONSIDERED: (1) Call to Order and Chair's Remarks and (2) Program Eligibility.

CONTACT PERSON FOR MORE INFORMATION: Sara Moeller, Administrative Officer, 434 E University Blvd., Suite 300, Tucson, AZ 85705, (520) 901-8568.

Dated: August 6, 2024.
David P. Brown
Executive Director, Morris K. Udall and Stewart L. Udall Foundation.

[FR Doc. 2024-17796 Filed 8-6-24; 4:15 pm]

BILLING CODE 6820-FN-P